NATIONAL CREDIT UNION ADMINISTRATION

Submission for OMB Review; Comment Request

AGENCY: National Credit Union Administration (NCUA).

ACTION: Notice.

SUMMARY: The National Credit Union Administration (NCUA) will submit the following information collection requests to the Office of Management and Budget (OMB) for review and clearance in accordance with the Paperwork Reduction Act of 1995, on or after the date of publication of this notice.

DATES: Comments should be received on or before December 9, 2019 to be assured of consideration.

ADDRESSES: Send comments regarding the burden estimates, or any other aspect of the information collections, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Suite 6060, Alexandria, VA 22314, or email at PRAComments@ncua.gov.

FOR FURTHER INFORMATION CONTACT: Copies of the submission may be obtained by contacting Mackie Malaka at (703) 548-2704, emailing PRAComments@ncua.gov, or viewing the entire information collection request at www.reginfo.gov.

SUPPLEMENTARY INFORMATION:

OMB Number: 3133-0032.

Type of Review: Extension currently approved collection.

Title: Records Preservation, 12 CFR part 749.

Abstract: Part 749 of the NCUA Regulations directs each credit union to have a vital records preservation program that includes procedures for maintaining duplicate vital records at a location far enough from the credit union's offices to avoid the simultaneous loss of both sets of records in the event of disaster. Part 749 also requires the program be in writing and include emergency contact information for employees, officials, regulatory offices, and vendors used to support vital records.

Affected Public: Private Sector: Not-for-profit institutions.

Estimated No. of Respondents: 5,308.

Estimated No. of Responses per Respondent: 12.

Estimated Total Annual Responses: 63,696.

Estimated Hours per Response: 2.

Estimated Total Annual Burden Hours: 127,392.

Reason for Change: The number of respondents have been updated to reflect the current number of FICUs of the June call report to 5,308. The number of responses per respondent (frequency) have been revised to include the monthly maintenance of the FICU's recordkeeping requirements under this part.

By Gerard Poliquin, Secretary of the Board, the National Credit Union Administration, on November 4, 2019.
Dated: November 4, 2019.
Mackie I. Malaka,
NCUA PRA Clearance Officer.

[FR Doc. 2019-24355 Filed 11-7-19; 8:45 am]

BILLING CODE 7535-01-P